ENVIRONMENTAL PROTECTION AGENCY

40 CFR Part 63

[ADL-FRL-6948-8]

RIN 2060-AH47

National Emission Standards for Hazardous Air Pollutant Emissions: Group IV Polymers and Resins

AGENCY: Environmental Protection Agency (EPA).

ACTION: Proposed rule; extension of compliance.

SUMMARY: The EPA is proposing to extend certain compliance dates contained in national emissions standards for hazardous air pollutant emissions for Group IV polymers and resins for polyethylene terephthalate (PET) affected sources. We are proposing this compliance extension pursuant to section 301(a)(1) of the Clean Air Act (CAA) to complete reconsideration of equipment leaks provisions and any necessary revision to the rule.

In the “Rules and Regulations” section of this Federal Register, we are approving the extension of compliance dates as a direct final rule without prior proposal because we view this as a noncontroversial revision and anticipate no adverse comment. We have explained our reasons for this approval in the preamble to the direct final rule. If we receive adverse comment, we will withdraw the direct final rule and it will not take effect. We will address all public comments in a subsequent final rule based on this proposed rule. We will not institute a second comment period on this action. Any parties interested in commenting must do so at this time.

DATES: Comments. Written comments must be received by March 28, 2001, unless a hearing is requested by March 8, 2001. If a hearing is requested, written comments must be received by April 12, 2001.

Public Hearing. Anyone requesting a public hearing must contact the EPA no later than March 8, 2001. If a hearing is held, it will take place on March 13, 2001, beginning at 10:00 a.m.

ADDRESSES: Comments. Comments should be submitted (in duplicate, if possible) to: Air and Radiation Docket and Information Center (6102), Attention Docket Number A-92-45 (Group IV Polymers and Resins), Room M-1500, U.S. EPA, 1200 Pennsylvania Avenue, NW, Washington, DC 20460. The EPA requests that a separate copy also be sent to the contact person listed below (see FOR FURTHER INFORMATION CONTACT). Comments and data may also be submitted electronically by following the instructions provided in the SUPPLEMENTARY INFORMATION section. No Confidential Business Information (CBI) should be submitted through electronic mail.

Public Hearing. If a public hearing is held, it will be held at the EPA's Office of Administration Auditorium, Research Triangle Park, North Carolina. Persons interested in attending the hearing or wishing to present oral testimony should notify Ms. Maria Noell, U.S. EPA, MD-13, Research Triangle Park, NC 27711, telephone (919) 541-5607.

Docket. The official record for this rulemaking has been established under docket number A-92-45. A public version of this record, including printed, paper versions of electronic comments and data, which does not include any information claimed as CBI, is available for inspection between 8 a.m. and 5:30 p.m., Monday through Friday, excluding legal holidays. The official rulemaking record is located at U.S. EPA, Waterside Mall, 401 M Street, SW, Washington, DC 20460. Alternatively, a docket index, as well as individual items contained within the docket, may be obtained by calling (202) 260-7548 or (202) 260-7549. A reasonable fee may be charged for copying.

FOR FURTHER INFORMATION CONTACT: Mr. Keith Barnett, Organic Chemicals Group, Emission Standards Division (MD-13), Office of Air Quality Planning and Standards, U.S. EPA, Research Triangle Park, NC 27711, telephone number (919) 541-5605, fax number (919) 541-3470, and electronic mail: barnett.keith@epa.gov.

SUPPLEMENTARY INFORMATION: Docket. The docket reflects the full administrative record for this action and includes all the information relied upon by EPA in the development of this rule. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the CAA.)

World Wide Web (WWW). In addition to being available in the docket, an electronic copy of this proposed rule will also be available on the WWW through the Technology Transfer Network (TTN). Following the Administrator's signature, a copy of the action will be posted on the TTN's policy and guidance page for newly proposed or promulgated rules http://www.epa.gov/ttn/oarpg. The TTN provides information and technology exchange in various areas of air pollution control. If more information regarding the TTN is needed, call the TTN HELP line at (919) 541-5384.

Regulated Entities. Regulated categories and entities include:

Category | Examples of regulated entities
Industry | Facilities manufacturing PET using a batch dimethyl terephthalate (DMT) process, PET facilities using a continuous DMT process, PET facilities using a batch terephthalic acid (TPA) process, and PET facilities using a continuous TPA records.

This table is not intended to be exhaustive, but rather provides a guide for readers regarding entities likely to be regulated by the Group IV Polymers and Resins standards. Other types of entities not listed in the table could also be regulated. To determine whether your facility is regulated, you should carefully examine the applicability criteria in § 63.1310 of the rule. If you have questions regarding the applicability of this action to a particular entity, consult the person listed in the preceding FOR FURTHER INFORMATION CONTACT section.

For further information, please see the information provided in the direct final rule that is located in the “Rules and Regulations” section of this Federal Register publication.

Administrative Requirements

Regulatory Flexibility Act (RFA), as amended by the Small Business Regulatory Enforcement Fairness Act of 1996 (SBREFA), 5 U.S.C. 601 et seq.

The RFA generally requires an agency to prepare a regulatory flexibility analysis of any rule subject to notice and comment rulemaking requirements, under the Administrative Procedure Act or another statute, unless the agency certifies that the rule will not have a significant economic impact on a substantial number of small entities. Small entities include small businesses, small organizations, and small governmental jurisdictions. For purposes of assessing the impacts of today's proposed rule on small entities, small entity is defined as: (1) A small business that is a business with less than 750 employees; (2) a small governmental jurisdiction that is a government of a city, county, town, school district or special district with a population of less than 50,000; and (3) a small organization that is any not-for-profit enterprise which is independently owned and operated and is not dominant in its field.

This proposed rule would not impose any requirements on small entities, because only one entity is subject to the PCCT standard and it is not a small entity. In addition, this proposed rule would relieve regulatory burden for all entities subject to the rule. After considering the economic impacts of today's proposed rule on small entities, I certify that this action will not have a significant economic impact on a substantial number of small entities.

For information regarding other administrative requirements for this action, please see the direct final/final rule action notice that is located in the “Rules and Regulations” section of this Federal Register publication.

List of Subjects in 40 CFR Part 63

Environmental protection, Administrative practice and procedure, Air pollution control, Hazardous substances, Intergovernmental relations, Reporting and recordkeeping requirements.

Dated: February 20, 2001.
Christine Todd Whitman,
Administrator.

[FR Doc. 01-4653 Filed 2-23-01; 8:45 am]

BILLING CODE 6560-50-P